FEDERAL COMMUNICATIONS COMMISSION

47 CFR Part 10

[PS Docket Nos. 15-91 and 15-94, FCC 18-4]

Election Whether To Participate in the Wireless Emergency Alert System

AGENCY: Federal Communications Commission.

ACTION: Final rule; announcement of effective date.

SUMMARY: In this document, the Commission announces that the Office of Management and Budget (OMB) has approved, the information collection associated with the Commission's a Wireless Emergency Alert Second Report and Order and Second Order on Reconsideration (WEA Second R&O). The WEA Second R&O defines “in whole” or “in part” Wireless Emergency Alert (WEA) participation; specifies the difference between these elections; and requires Commercial Mobile Service (CMS) Providers to update their election status and provide enhanced disclosure to subscribers at the point of sale. This document is consistent with the WEA Second R&O, which states that the Commission would publish a document in the Federal Register announcing the effective date of those rules.

DATES: The amendment to 47 CFR 10.240, published at 83 FR 8619 on February 28, 2018, is effective December 27, 2018.

FOR FURTHER INFORMATION CONTACT: Linda Pintro, Attorney-Advisor, Policy and Licensing Division, Public Safety and Homeland Security Bureau at 202-418-7490 or Linda.Pintro@fcc.gov.

SUPPLEMENTARY INFORMATION: This document announces that, on August 1, 2018, OMB approved, the information collection requirements relating to CMS Provider election of whether to participate in WEA, and the enhanced disclosure rules contained in the Commission's WEA Second R&O, PS Docket Nos. 15-91 and 15-94, FCC 18-4. The OMB Control Number is 3060-1113. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-1113, in your communication. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on August 1, 2018, for the information collection requirements contained in the modifications to the Commission's rules in 47 CFR 10.240.

Under 5 CFR part 1320, an agency may not conduct or sponsor a collection of information unless it displays a current, valid OMB Control Number. No person shall be subject to any penalty for failing to comply with a collection of information subject to the Paperwork Reduction Act that does not display a current, valid OMB Control Number. The OMB Control Number is 3060-1113.

The foregoing notice is required by the Paperwork Reduction Act of 1995, Public Law 104-13, October 1, 1995, and 44 U.S.C. 3507.

The total annual reporting burdens and costs for the respondents are as follows:

OMB Control Number: 3060-1113.

OMB Approval Date: August 1, 2018.

OMB Expiration Date: August 31, 2021.

Title: Election Whether to Participate in the Wireless Emergency Alert System.

Form Number: N/A.

Respondents: Business or other for-profit entities.

Number of Respondents and Responses: 1,253 respondents; 5,012 responses.

Estimated Time per Response: 0.5-12 hours.

Frequency of Response: On occasion reporting requirement recordkeeping and third-party disclosure requirements.

Obligation to Respond: Mandatory and voluntary. The statutory authority for this information collection is contained in 47 U.S.C. 151, 154(i), 154(j), 154(o), 218, 219, 230, 256, 302(a), 303(f), 303(g), 303(r), 403, 621(b)(3), and 621(d).

Total Annual Burden: 28,820 hours.

Total Annual Cost: No Cost.

Nature and Extent of Confidentiality: An assurance of confidentiality is not offered because this information collection does not involve confidential information.

Privacy Act Impact Assessment: No impact(s).

Needs and Uses: The Warning, Alert and Response Network Act, Title VI of the Security and Accountability for Every Port Act of 2006 (120 Stat. 1884, section 602(a), codified at 47 U.S.C. 1201, et seq., 1202(a)) (WARN Act) gives the Commission authority to adopt relevant technical standards, protocols, procedures and other technical requirements governing Wireless Emergency Alert. The WARN Act also gives the Commission authority to adopt procedures by which CMS Providers disclose their intent to participate in WEA. The Commission created WEA in response to the WARN Act, and to satisfy the Commission's mandate to promote the safety of life and property using wire and radio communication. These information collections involve the WEA system, which allows CMS Providers to elect to transmit emergency alerts to the public. The information collection from CMS Providers include (1) disclosing the extent to which a CMS Provider participates in wireless alerts (“in whole” or “in part”); and (2) enhanced notification of the CMS provider's non-participation in WEA, to new subscribers at the point of sale. These disclosures will allow consumers to make more informed choices about their ability to receive WEA Alert Messages that are relevant to them.

Federal Communications Commission.
Marlene Dortch,
Secretary, Office of the Secretary.

[FR Doc. 2018-18704 Filed 8-28-18; 8:45 am]

BILLING CODE 6712-01-P